NUCLEAR WASTE TECHNICAL REVIEW BOARD

Formation of SES Performance Review Board

AGENCY: U.S. Nuclear Waste Technical Review Board.

ACTION: Notice.

SUMMARY: Section 4314(c)(1) through (5) of title 5 of the United States Code, requires each agency to establish in accordance with regulations prescribed by the Office of Personnel Management, one or more SES Performance Review Boards. Section 4314(c)(4) of title 5 requires that notice of appointment of board members be published in the Federal Register. The following executives have been designated as members of the Performance Review Board for the U.S. Nuclear Waste Technical Review Board:

Jean M. Bahr, Board Member, U.S. Nuclear Waste Technical Review Board

Linda K. Nozick, Board Member, U.S. Nuclear Waste Technical Review Board

Paul J. Turinsky, Board Member, U.S. Nuclear Waste Technical Review Board

Timothy J. Dwyer, Group Lead, Nuclear Weapons Program, Defense Nuclear Facilities Safety Board

Richard E. Tontodonato, Deputy Technical Director, Defense Nuclear Facilities Safety Board

Mark T. Welch, General Manager, Defense Nuclear Facilities Safety Board

DATES: Effectively immediately and until December 31, 2016.

FOR FURTHER INFORMATION CONTACT: For further information about the formation of the U.S. Nuclear Waste Technical Review Board's Performance Review Board, please contact Debra L. Dickson at 703.235.4480, or via email at dickson@nwtrb.gov, or via mail at 2300 Clarendon Blvd., Suite 1300, Arlington, VA 22201.

Authority: 42 U.S.C. 10262

June 20, 2016.
Debra L. Dickson,
Director of Administration, U.S. Nuclear Waste Technical Review Board.

[FR Doc. 2016-15137 Filed 6-24-16; 8:45 am]

BILLING CODE P